NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: October 30, 2013, 10:00 a.m.-3:30 p.m.

Place: National Science Foundation, 4201 Wilson Boulevard, Room 1235, Arlington, VA 22230.

Note: CEOSE Advisory Committee Members will be attending virtually. If you wish to attend, in-person attendance is required. To help facilitate your entry into the building, please contact Victoria Fung (vfung@nsf.gov) on or prior to Oct 28, 2013.

Type of Meeting: Open.

Contact Person: Dr. Bernice T. Anderson, Senior Advisor and CEOSE Executive Secretary, Office of International and Integrative Activities, National Science Foundation, 4201 Wilson Boulevard, Arlington, VA 22230 (703) 292-5151 (direct) (703) 292-8040 (main) Email Address: banderso@nsf.gov.

Minutes: Meeting minutes and other information may be obtained from the Senior Advisor at the above address or the Web site at http://www.nsf.gov/od/iia/activities/ceose/index.jsp .

Purpose of Meeting: To study data, programs, policies, and other information pertinent to the National Science Foundation and to provide advice and recommendations concerning broadening participation in science and engineering.

Agenda:

Wednesday, October 30, 2013

Opening Statement by the CEOSE Chair

Presentations and Discussions:

Delivery of the 2011-2012 Biennial CEOSE Report

Presentation of Key Points from the Meeting among the National Science Foundation Acting Director and CEOSE officers

Update of Broadening Participation Activities by the CEOSE Executive Liaison

Discussion with Dr. Cora B. Marrett, Acting Director and Deputy Director of the National Science Foundation

Reports of CEOSE Liaisons to NSF Advisory Committees

Discussion by Federal Agency Liaisons About Interagency Broadening Participation Activities

Panel Discussion about the Significance of Financial Support for Underrepresented Groups in STEM

Discussion on CEOSE Unfinished Business and New Business

Dated: September 26, 2013.
Susanne Bolton,
Committee Management Officer.

[FR Doc. 2013-23981 Filed 10-1-13; 8:45 am]

BILLING CODE 7555-01-P